FEDERAL MARITIME COMMISSION

Ocean Transportation Intermediary License Revocations

The Federal Maritime Commission hereby gives notice that the following Ocean Transportation Intermediary licenses have been revoked pursuant to section 19 of the Shipping Act of 1984 (46 U.S.C. app. 1718) and the regulations of the Commission pertaining to the licensing of Ocean Transportation Intermediaries, 46 CFR part 515, effective on the corresponding date shown below:

License Number: 014272N.

Name: CDC USA, Inc.

Address: 2000 Kennedy Avenue, 3rd Floor, San Juan, PR 00920.

Date Revoked: July 10, 2006.

Reason: Failed to maintain a valid bond.

License Number: 016680F.

Name: International Freight Express (USA), Inc.

Address: 147-39 175th St., Suite 206A, Jamaica, NY 11434.

Date Revoked: June 5, 2006.

Reason: Failed to maintain a valid bond.

License Number : 014695N.

Name: Sumikin International Transport (U.S.A.), Inc. dba Sitra.

Address: 2180 South Wolf Road, Des Plaines, IL 60018.

Date Revoked: July 19, 2006.

Reason: Surrendered license voluntarily.

Peter J. King,
Deputy Director, Bureau of Certification and Licensing.

[FR Doc. E6-14442 Filed 8-29-06; 8:45 am]

BILLING CODE 6730-01-P